DEPARTMENT OF THE INTERIOR

National Park Service

[N6969; NPS-WASO-NAGPRA-NPS0042111; PPWOCRADN0-PCU00RP14.R50000]

Notice of Inventory Completion: Santa Barbara Museum of Natural History, Santa Barbara, CA

AGENCY: National Park Service, Interior.

ACTION: Notice.

SUMMARY: In accordance with the Native American Graves Protection and Repatriation Act (NAGPRA), the Santa Barbara Museum of Natural History has completed an inventory of human remains and has determined that there is a cultural affiliation between the human remains and Indian Tribes or Native Hawaiian organizations in this notice.

DATES: Repatriation of the human remains in this notice may occur on or after April 1, 2026.

ADDRESSES: Send written requests for repatriation of the human remains in this notice to Luke Swetland, President and CEO, Santa Barbara Museum of Natural History, 2559 Puesta del Sol, Santa Barbara, CA 93105, email lswetland@sbnature2.org.

SUPPLEMENTARY INFORMATION: This notice is published as part of the National Park Service's administrative responsibilities under NAGPRA. The determinations in this notice are the sole responsibility of the Santa Barbara Museum of Natural History, and additional information on the determinations in this notice, including the results of consultation, can be found in its inventory or related records. The National Park Service is not responsible for the determinations in this notice.

Abstract of Information Available

Human remains representing, at least, two individuals were likely removed from Madison County, Illinois. In 2007, an anonymous package containing these human remains was mailed to the Santa Barbara Museum of Natural History. The human remains consist of 60% of an intact cranium, and one mandible. The package also contained a type-written note that says: “The skull and jaw bones were found in a closet while cleaning out a person's belongings . . . it appears that the person who collected them dug them up when he was a child in southern Illinois. From what I have been able to determine, he dug them up about 80 years ago on farmland that was about 18 miles from the site of Cahokia. We had absolutely no idea what to do with these bones and want to make sure they are handled respectfully . . . and so are sending them to the Natural History Museum for handling.” No associated funerary objects are present.

Cultural Affiliation

Based on the information available and the results of consultation, cultural affiliation is reasonably identified by the geographical location or acquisition history of the human remains described in this notice.

Determinations

The Santa Barbara Museum of Natural History has determined that:

• The human remains described in this notice represent the physical remains of at least two individuals of Native American ancestry.

• There is a connection between the human remains described in this notice and the Absentee Shawnee Tribe of Indians of Oklahoma; Eastern Shawnee Tribe of Oklahoma; Ho-Chunk Nation of Wisconsin; Iowa Tribe of Kansas and Nebraska; Kickapoo Traditional Tribe of Texas; Match-E-Be-Nash-She-Wish Band of Pottawatomi (previously listed as Match-E-Be-Nash-She-Wish Band of Pottawatomi Indians of Michigan); Miami Tribe of Oklahoma; Peoria Tribe of Indians of Oklahoma; Pokagon Band of Potawatomi Indians, Michigan and Indiana; Prairie Band Potawatomi Nation; Quapaw Nation; Sac & Fox Nation of Missouri in Kansas and Nebraska; The Osage Nation; Thlopthlocco Tribal Town; and the Winnebago Tribe of Nebraska.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 1, 2026. If competing requests for repatriation are received, the Santa Barbara Museum of Natural History must determine the most appropriate requestor prior to repatriation. Requests for joint repatriation of the human remains are considered a single request and not competing requests. The Santa Barbara Museum of Natural History is responsible for sending a copy of this notice to the Indian Tribes and Native Hawaiian organizations identified in this notice.

Authority: Native American Graves Protection and Repatriation Act, 25 U.S.C. 3003, and the implementing regulations, 43 CFR 10.10.

Dated: February 20, 2026.
Melanie O'Brien,
Manager, National NAGPRA Program.

[FR Doc. 2026-04055 Filed 2-27-26; 8:45 am]

BILLING CODE 4312-52-P